FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 23, 2008.

A. Federal Reserve Bank of Atlanta (David Tatum, Vice President) 1000 Peachtree Street, N.E., Atlanta, Georgia 30309:

1. C. Steven Lewis, individually, and with Jeffrey M. Lewis; to acquire voting shares of Citizens Bancorp, Inc., and thereby indirectly acquire voting shares of Citizens Bank, all of New Tazewell, Tennessee.

B. Federal Reserve Bank of Chicago (Burl Thornton, Assistant Vice President) 230 South LaSalle Street, Chicago, Illinois 60690-1414:

1. Patricia L. Pierce, Menasha, Wisconsin, to retain voting shares of First Menasha Bancshares, Inc., and thereby indirectly retain voting shares of First National Bank-Fox Valley, both of Neenah, Wisconsin.

Board of Governors of the Federal Reserve System, January 3, 2008.
Jennifer J. Johnson,
Secretary of the Board.

[FR Doc. E8-58 Filed 1-7-08; 8:45 am]

BILLING CODE 6210-01-S